NUCLEAR REGULATORY COMMISSION

[NRC-2008-0122]

Draft Regulatory Guide: Issuance, availability; correction

AGENCY: Nuclear Regulatory Commission.

ACTION: Draft Regulatory Guide: Issuance, availability; correction.

SUMMARY: This document corrects a notice appearing in the Federal Register on May 18, 2009 (74 FR 23220), concerning the issuance of Draft Regulatory Guide 1237. This action is necessary to correct the spelling of the contact's first name, e-mail address and the comment receipt date.

FOR FURTHER INFORMATION CONTACT: Stephen F. LaVie, U.S. Nuclear Regulatory Commission, Washington, DC 20555-0001, telephone (301) 415-1081 or e-mail to Steve.LaVie@nrc.gov.

SUPPLEMENTARY INFORMATION: On page 23220, in the third column, under FOR FURTHER INFORMATION CONTACT, the spelling of the first name of the contact is changed from “Steven” to read “Stephen.” The e-mail address is changed from “Steven.LaVie@nrc.gov” to read “Steve.LaVie@nrc.gov.”

On page 23221, in the first column, third full paragraph, the spelling of the first name of the contact is changed from “Steven” to read “Stephen.” The e-mail address is changed from “Steven.LaVie@nrc.gov” to read “Steve.LaVie@nrc.gov.”

On page 23221, in the first column, fourth full paragraph, the comment receipt date is changed from “September 1, 2009” to read “August 3, 2009.”

Dated at Rockville, Maryland, this 18th day of May, 2009.
For the Nuclear Regulatory Commission.
R. A. Jervey,
Acting Chief, Regulatory Guide Development Branch, Division of Engineering, Office of Nuclear Regulatory Research.

[FR Doc. E9-12102 Filed 5-22-09; 8:45 am]

BILLING CODE 7590-01-P